DEPARTMENT OF DEFENSE

Department of the Air Force

Notice of Intent To Grant a Partially Exclusive Patent License

AGENCY: Department of the Air Force, Department of Defense.

ACTION: Notice of intent.

SUMMARY: Pursuant to the provisions of Part 404 of Title 37, Code of Federal Regulations, which implements Public Law 96-517, as amended; the Department of the Air Force announces its intention to grant NBD Nanotechnologies, Inc. a corporation of the State of Delaware, having a place of business at 8 St. Mary's Street, Room 611, Boston, MA 02215.

DATES: The Air Force intends to grant a license for the patent and pending applications unless a written objection is received within fifteen (15) calendar days from the date of publication of this Notice.

ADDRESSES: Written objection should be sent to: Air Force Materiel Command Law Office, AFMCLO/JAZ, 2240 B Street, Rm. 101, Wright-Patterson AFB, OH 45433-7109; Facsimile: (937) 255-3733.

FOR FURTHER INFORMATION CONTACT: Air Force Materiel Command Law Office, AFMCLO/JAZ, 2240 B Street, Rm. 101, Wright-Patterson AFB, OH 45433-7109; Facsimile: (937) 255-3733.

SUPPLEMENTARY INFORMATION: A partially exclusive license (exclusive with respect to the fields of footwear and circuit boards) in any right, title, and interest of the Air Force in: U.S. Application No. 13/624,151, entitled, “SYNTHESIS OF FUNCTIONAL FLUORINATED POLYHEDRAL OLIGOMERIC SILSESQUIOXANE,” by Timothy S. Haddad et al., filed on 21 September 2012, published as U.S. Application Publication No. 2013/0072609, and claiming benefit of and priority to U.S. Provisional Application 61/537,122, filed 21 September 2011; and U.S. Application No. 14/013,600, entitled, “CONTROLLED POLYMERIZATION OF FUNCTIONAL FLUORINATED POLYHEDRAL OLIGOMERIC SILSESQUIOXANE MONOMERS,” by Sean M. Ramirez et al., and filed on 29 August 2013.

Henry Williams,
Acting Air Force Federal Register Liaison Officer.

[FR Doc. 2015-06683 Filed 3-23-15; 8:45 am]

BILLING CODE 5001-10-P